DEPARTMENT OF TRANSPORTATION

Federal Aviation Administration

Notice Before Waiver With Respect to land at Woodbine Municipal Airport, Woodbine, NJ

AGENCY: Federal Aviation Administration (FAA), DOT.

ACTION: Notice of intent of waiver with respect to land.

SUMMARY: The FAA is publishing notice of the proposed release of approximately 127 acres of land located at Woodbine Municipal Airport, to allow its lease for non-aviation development. The parcel was part of the airport property deeded to the Borough of Woodbine on December 9, 1947 under a quit claim conveyance from the United States. The parcel was later conveyed to the Woodbine Port Authority. The Woodbine Port Authority proposes to lease the land to a developer who will develop it as a golf course.

FAA's action is to release the land from a deed provision requiring aeronautical use of the property. The Woodbine Port Authority has stated that it has no aeronautical use for the parcel now or in the near future according to the Woodbine Municipal Airport Layout Plan.

The Fair Market Value of the land will be paid to the Woodbine Port Authority for the maintenance, operation and capital development of the Woodbine Municipal Airport.

Any comments the agency receives will be considered as a part of the decision.

DATES: Comments must be received on or before October 29, 2003.

ADDRESSES: Comments on this application may be mailed or delivered in triplicate to the FAA at the following address: Philip Brito, Manager, FAA New York Airports District Office, 600 Old Country Road, Suite 446, Garden City, New York 11530.

In addition, one copy of any comments submitted to the FAA must be mailed or delivered to Mr. Clifton Anderson, Jr., Chairperson, Woodbine, New Jersey, at the following address: Mr. Clifton Sanderson, Jr., Chairperson, Woodbine Port Authority, P.O. Box 144, Woodbine, New Jersey 08270.

FOR FURTHER INFORMATION CONTACT: Mr. Philip Brito, Manager, New York Airports District Office, 600 Old Country Road, Suite 446, Garden City, New York 11530; telephone (516) 227-3803; FAX (516) 227-3813; E-Mail Philip.Brito@faa.gov.

SUPPLEMENTARY INFORMATION: On April 5, 2000, new authorizing legislation became effective. That bill, the Wendell H. Ford Aviation Investment and Reform Act for the 21st Century, Pub. L. 10-181 (Apr. 5, 2000; 114 Stat. 61) (AIR 21) requires that a 30 day public notice must be provided before the Secretary may waive any condition imposed on an interest in surplus property.

Issued in Garden City, New York, on September 19, 2003.
Philip Brito,
Manager, New York Airports District Office, Eastern Region.

[FR Doc. 03-24610 Filed 9-26-03; 8:45 am]

BILLING CODE 4910-13-M